DEPARTMENT OF ENERGY

Federal Energy Regulatory Commission

[Docket No. RP00-402-003]

Paiute Pipeline Company; Notice of Compliance Filing

February 4, 2003.

Take notice that on January 31, 2003, Paiute Pipeline Company (Paiute) tendered for filing as part of its FERC Gas Tariff, Second Revised Volume No. 1-A, the following tariff sheets, to become effective December 1, 2002:

Seventh Revised Sheet No. 63C, Fifth Revised Sheet No. 89.

Second Revised Sheet No. 89A, Original Sheet No. 89B.

Fifth Revised Sheet No. 111, Fifth Revised Sheet No. 112.

Fourth Revised Sheet No. 113, Third Revised Sheet No. 113A.

Paiute indicates that the purpose of its filing is to comply with the directives of the letter order issued on December 23, 2002 in Docket Nos. RP00-402-001 and RP00-402-002, concerning Paiute's compliance with Order No. 637.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: February 12, 2003.

Magalie R. Salas,
Secretary.

[FR Doc. 03-3147 Filed 2-7-03; 8:45 am]

BILLING CODE 6717-01-P